DEPARTMENT OF ENERGY
Federal Energy Regulatory Commission
Notice of Application for Non-Project Use of Project Lands and Waters and Soliciting Comments, Motions To Intervene, and Protests
January 22, 2004.

Take notice that the following application has been filed with the Commission and is available for public inspection:

a. Application Type: Non-project use of project lands and waters.
b. Project No.: 2503-077.
c. Date Filed: October 2, 2003.
d. Applicant: Duke Power, a Division of Duke Energy Corporation.
e. Name of Project: Keowee-Jocassee Hydroelectric Project.
f. Location: On Lake Keowee at Water's Edge Subdivision in Oconee County, South Carolina.
g. Filed Pursuant to: Federal Power Act, 16 U.S.C. 791 (a) 825(r) and 799 and 801.
h. Applicant Contact: Mr. Joe Hall, Lake Management Representative, Duke Energy Corporation, P.O. Box 1006, Charlotte, NC, 28201-1006, (704) 382-8576.
i. FERC Contacts: Any questions on this notice should be addressed to Ms. Jean Potvin at (202) 502-8928, or e-mail address: jean.potvin@ferc.gov.
j. Deadline for filing comments and or motions: February 23, 2004.

All documents (original and eight copies) should be filed with: Ms. Magalie R. Salas, Secretary, Federal Energy Regulatory Commission, 888 First Street, NE., Washington, DC 20426. Please include the project number (P-2503-077) on any comments or motions filed. Comments, protests, and interventions may be filed electronically via the internet in lieu of paper. See, 18 CFR 385.2001(a)(1)(iii) and the instructions on the Commission's Web site under the “e-Filing” link. The Commission strongly encourages e-filings.
k. Description of Request: Duke Power is requesting Commission approval to lease 0.908 acre of land within the project boundary to Mr. Danny Cisson for a commercial/residential marina. The marina will consist of 2 cluster docks with 28 boat slips and 8 end ties for a total of 36 boat docking locations, a boat ramp with courtesy dock, and shoreline stabilization for access to the reservoir for residents of the Water's Edge Subdivision located in Oconee County, South Carolina. The docks will be constructed of high quality treated wood, steel, and encapsulated Styrofoam (Formex) for floatation. The docks will be constructed off site and floated into place. The concrete boat launching ramp will be 12 feet in width and 120 feet in length and constructed of 6 inch thick welded wire mesh reinforced concrete. The shoreline stabilization will consist of 436 linear feet of rip rap material. Approximately 50 cubic yards of fill material and approximately 705 cubic yards of rip rap will be deposited around the slip areas to provide for shoreline stabilization by either truck or barge.
l. Location of the Applications: The filings are available for review at the Commission in the Public Reference Room, located at 888 First Street, NE., Room 2A, Washington, DC 20426, or may be viewed on the Commission's Web site at http://www.ferc.gov using the “eLibrary” link. Enter the docket number excluding the last three digits in the docket number field to access the document. For assistance, please call the Helpline at (866) 208-3676 or contact FERCOnLineSupport@ferc.gov. For TTY, contact (202) 502-8659.
m. Individuals desiring to be included on the Commission's mailing list should so indicate by writing to the Secretary of the Commission.
n. Comments, Protests, or Motions to Intervene—Anyone may submit comments, a protest, or a motion to intervene in accordance with the requirements of rules of practice and procedure, 18 CFR 385.210, .211, .214. In determining the appropriate action to take, the Commission will consider all protests or other comments filed, but only those who file a motion to intervene in accordance with the Commission's Rules may become a party to the proceeding. Any comments, protests, or motions to intervene must be received on or before the specified comment date for the particular application.
o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.
p. Agency Comments—Federal, State, and local agencies are invited to file comments on the described applications. A copy of the applications may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E4-150 Filed 1-29-04; 8:45 am]
BILLING CODE 6717-01-P